DEPARTMENT OF THE INTERIOR

Fish and Wildlife Service

[FWS-HQ-IA-2013-N079; FXIA16710900000P5-123-FF09A30000]

Wild Bird Conservation Act; Receipt of Application for Approval

AGENCY: Fish and Wildlife Service, Interior.

ACTION: Notice of receipt of application for approval; request for comment.

SUMMARY: The public is invited to comment on the following application for approval to conduct certain activities with birds that are protected in accordance with the Wild Bird Conservation Act of 1992.

DATES: Written data, comments, or requests for a copy of this application must be received by May 2, 2013.

ADDRESSES: Documents and other information submitted with this application are available for review, subject to the requirements of the Privacy Act and Freedom of Information Act, by any party who submits a written request for a copy of such documents within 30 days of the date of publication of this notice to: Chief, U.S. Fish and Wildlife Service, Division of Management Authority, 4401 North Fairfax Drive, Room 212, Arlington, VA 22203; fax 703/358-2298.

FOR FURTHER INFORMATION CONTACT: Craig Hoover, Chief, Branch of Operations, Division of Management Authority, at 703-358-2104.

SUPPLEMENTARY INFORMATION: The public is invited to comment on the following application for approval to conduct certain activities with bird species covered under the Wild Bird Conservation Act of 1992. This notice is provided pursuant to Section 112(4) of the Wild Bird Conservation Act of 1992, 50 CFR 15.26(c). Written data, comments, or requests for copies of this complete application should be submitted to the Chief (address above).

Applicant: Mr. Vernon Bret Padgett, Stone Mountain, GA.

The applicant wishes to establish a cooperative breeding program for Red-necked Aracari (Pteroglossus aracari), Green Aracari (Pteroglossus viridis), Toco Toucan (Ramphastos toco), Red-billed Toucan (Ramphastos tucanus), and Channel-billed Toucan (Ramphastos vitellinus). The applicant wishes to be an active participant in this program along with one other individual. If approved, the program will be overseen by the Zoological Association of America.

Before including your address, phone number, email address, or other personal identifying information in your comment, you should be aware that your entire comment—including your personal identifying information—may be made publicly available at any time. While you can ask us in your comment to withhold your personal identifying information from public review, we cannot guarantee that we will be able to do so.

Dated: March 27, 2013.
Craig Hoover,
Chief, Branch of Operations, Division of Management Authority.

[FR Doc. 2013-07598 Filed 4-1-13; 8:45 am]

BILLING CODE 4310-55-P